DEPARTMENT OF JUSTICE

Notice of Lodging of Consent Decree Pursuant to the Comprehensive Environmental Response, Compensation and Liability Act

Notice is hereby given that a proposed consent decree, in United States v. Petroleum Specialties, Inc., et al., Civil No. 99-72421 (E.D. Mich.), was lodged with the United States District Court for the Eastern District of Michigan on March 13, 2001, pertaining to the Petroleum Specialties, Inc. Site (the “Site”), located in Flat Rock, Wayne County, Michigan. The proposed consent decree would resolve the United States' civil claims against Sharon Fleischman, Fannie Robinson and Rose Liebergott (collectively, the “Settling Defendants”), under sections 107(a) and 113(g) of the Comprehensive Environmental Response, Compensation, and Liability Act of 1980, as amended (“CERCLA”), 42 U.S.C. 9607(a) and 9613(g), in connection with the Site.

Under the proposed ability to pay consent decree, each Settling Defendant will make payments totaling $25,000 to the United States following entry of the proposed consent decree for federal Response Costs incurred at the Site. The Consent Decree includes, inter alia, a covenant not to sue by the United States under sections 106 and 107 of CERCLA, 42 U.S.C. 9606 and 9607, contribution protection as provided by section 113(f)(2) of CERCLA, 42 U.S.C. 9613(f)(2), and reservations of United States' rights for, among other things, failure to comply with any requirement of the Consent Decree, claims for natural resource damages, and claims for false certifications by Settling Defendants under the Consent Decree.

The Department of Justice will receive, for a period of thirty (30) days from the date of this publication, comments relating to the proposed consent decree. Comments should be addressed to the Assistant Attorney General, Environment and Natural Resources Division, United States Department of Justice, Washington, DC 20530, and should refer to United States v. Petroleum Specialties, Inc., et al., Civil No. 99-72421 (E.D. Mich), and DOJ Reference No. 90-11-2-1374.

The proposed consent decree may be examined at: (1) The Office of the United States Attorney for the Eastern District of Michigan, Suite 2001, 211 West Fort Street, Detroit, Michigan 48226-3211 (313-226-9790); and (2) the United States Environmental Protection Agency (Region 5), 77 West Jackson Boulevard, Chicago, Illinois 60604-3590 (contact: Diana Embil (312-886-7889)). A copy of the proposed consent decree may be obtained by mail from the Consent Decree Library, U.S. Department of Justice, P.O. Box 7611, Washington, DC 20044-7611. In requesting a copy, please refer to the referenced case and DOJ Reference Number and enclose a check in the amount of $6.00 for the consent decree and one appendix (24 pages at 25 cents per page reproduction costs), made payable to the Consent Decree Library.

William Brighton,
Assistant Chief, Environmental Enforcement Section, Environment and Natural Resources Division.

[FR Doc. 01-7191 Filed 3-22-01; 8:45 am]

BILLING CODE 4410-15-M